ENVIRONMENTAL PROTECTION AGENCY

[EPA-HQ-OPP-2009-0045; FRL-8807-5]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before March 8, 2010.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have a typical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 174 or part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 9E7606. (EPA-HQ-OPP-2009-0906). Syngenta Crop Protection, Inc., 410 Swing Road, P.O. Box 18300, Greensboro, NC 27419-8300, proposes to establish an import tolerance in 40 CFR part 180 for residues of the fungicide isopyrazam (SYN520453), in or on banana at 0.05 parts per million (ppm). An adequate, validated method (GRM006.01B) is available for enforcement purposes for the determination of residues of isopyrazam, analyzed as the isomers SYN534968 and SYN534969, in crop samples. The limit of quantitation (LOQ) has been set at 0.005 mg/kg for each isomer (0.01 mg/kg for SYN520453 in total). Final determination is by liquid chromatography-mass spectrometry/mass spectrometry (LC-MS/MS). An analytical method suitable for the determination of residues of the metabolites CSCD459488 and CSCD459489 (syn and anti forms respectively) in crop samples using an external standardization procedure is also available (GRM006.03A). The LOQ has been set at 0.005 mg/kg for both analytes. Final determination is by LC-MS/MS. Contact: Shaunta Hill, (703) 347-8961; hill.shaunta@epa.gov.

2. PP 9E7632. (EPA-HQ-OPP-2009-0861). The Interregional Research Project No. 4 (IR-4), 500 College Road East, Suite 201W, Princeton, NJ 08540, proposes to establish a tolerance in 40 CFR part 180 for residues of the insecticide spirodiclofen, (3-(2,4-dichlorophenyl)-2-oxo-1-oxaspiro[4,5]dec-3-en-4-yl 2,2-dimethylbutanoate), in or on the bushberry subgroup 13-07B at 4.0 ppm. Adequate analytical methodology using LC-MS/MS detection is available for enforcement purposes. Contact: Laura Nollen, (703) 305-7390; nollen.laura@epa.gov.

3. PP 9E7642. (EPA-HQ-OPP-2009-0890). The Interregional Research Project No. 4 (IR-4), 500 College Road East, Suite 201W, Princeton, NJ 08540, in cooperation with Chemtura Corp., 199 Benson Rd (2-5), Middlebury, CT 06749, proposes to establish tolerances in 40 CFR part 180 for residues of the insecticide bifenazate, (1-methylethyl 2-(4-methoxy[1,1'-biphenyl]-3-yl)hydrazinecarboxylate) and diazinecarboxylic acid, 2-(4-methoxy-[1,1'-biphenyl]-3-yl), 1-methylethyl ester (expressed as bifenazate), in or on sugar apple, cherimoya, atemoya, custard apple, ilama, soursop, and biriba at 1.5 ppm; avocado at 7.0 ppm; fruit, small, vine climbing subgroup 13-07F, except fuzzy kiwi fruit at 0.75 ppm; and berry, low growing, subgroup 13-07G at 1.5 ppm. Chemtura Corporation, has developed practical analytical methodology for detecting and measuring residues of bifenazate in or on raw agricultural commodities. As D3598, a significant metabolite, was found to interconvert readily to/from bifenazate, the analytical method was designed to convert all residues of D3598 to the parent compound (bifenazate) for analysis. The method, “Determination of Combined Bifenazate and D3598 Residues in Sugar Apple”, utilizes reversed phase high performance liquid chromatography (HPLC) to separate the bifenazate from matrix derived interferences, and oxidative coulometric electrochemical detection for the identification and quantification of this analyte. The lowest level of method validation (LLMV) in this study was 0.05 ppm for each analyte. Based on recoveries of samples fortified at the LLMV, the limit of detection (LOD) and limit of quantitation (LOQ) were calculated as 0.0308 ppm and 0.0923 ppm, respectively, for bifenazate and as 0.0332 ppm and 0.0997 ppm, respectively, for D3598. Contact: Sidney Jackson, (703) 305-7610; jackson.sidney@epa.gov.

4. PP 9E7651. (EPA-HQ-OPP-2009-0980). Syngenta Crop Protection, Inc., P.O. Box 18300, Greensboro, NC 27419-8300, proposes to establish import tolerances in 40 CFR part 180 for residues of the insecticide fluazifop-p-butyl, in or on potato, tuber at 1.1 ppm; potato, peel (wet) at 1.1 ppm; potato, chips at 3.0 ppm; and potato, granules/flakes at 5.0 ppm. Syngenta has developed and validated analytical methodology for enforcement purposes. This method has been submitted to the Agency and is in the Pesticide Analytical Manual, Vol. II (PAM II). An extensive database of method validation data using this method on various crop commodities is available. Contact: Michael Walsh, (703) 308-2972; walsh.michael@epa.gov.

5. PP 9F7568. (EPA-HQ-OPP-2009-0481). Valent U.S.A. Company, 1600 Riviera Ave., Walnut Creek, CA 94596-8025, proposes to establish tolerances in 40 CFR part 180 for residues of the fungicide 2,6-Dichlorobenzamide (BAM), in or on cattle, fat; cattle, meat byproducts; goat, fat; goat, meat byproducts; horse, fat; horse, meat byproducts; sheep, fat; and sheep, meat byproducts at 0.05 ppm; and cattle, meat; goat, meat; horse, meat; sheep, meat at 0.02 ppm, and milk at 0.02 ppm. A practical analytical method utilizing liquid chromatography and mass spectrometry detection that is validated for detecting and measuring levels of fluopicolide and BAM in animal matrices has been submitted. A confirmation method for milk, with a limit of quantitation of 0.002 ppm, has also been developed and is being submitted as part of this petition. Contact: Janet Whitehurst, (703) 305-6129; whitehurst.janet@epa.gov.

6. PP 9F7590. (EPA-HQ-OPP-2009-0873). BASF Corporation, P.O. Box 13528, Research Triangle Park, NC 27709, proposes to establish tolerances in 40 CFR part 180 for residues of the fungicide pyraclostrobin, carbamic acid [2-[[[1-(4-chlorophenyl)-1H-pyrazol-3-yl]oxy]methyl]phenyl]methoxy-, methyl ester and its metabolite methyl-N-[[[1-(4-chlorophenyl) pyrazol-3-yl]oxy]o-tolyl] carbamate (BF 500-3); expressed as parent compound, in or on soybean, forage at 11.0 ppm; and soybean, hay at 14.0 ppm. In plants, the method of analysis is aqueous organic solvent extraction, column clean up and quantitation by LC-MS/MS. In animals, the method of analysis involves base hydrolysis, organic extraction, column clean up and quantitation by LC-MS/MS or derivatization (methylation) followed by quantitation by gas chromatography/MS (GC/MS). Contact: Shaunta Hill, (703) 347-8961; hill.shaunta@epa.gov.

7. PP 9F7617. (EPA-HQ-OPP-2009-0481). Valent U.S.A. Company, 1600 Riviera Ave., Walnut Creek, CA 94596-8025, proposes to establish a tolerance in 40 CFR part 180 for residues of the fungicide fluopicolide, 2,6-dichloro-N-[[3-chloro-5-(trifluoromethyl)-2-pyridyl]methyl]benzamide, as an indicator of combined residues of fluopicolide and its metabolite, 2,6-dichlorobenzamide (BAM), in or on vegetable, Brassica, leafy greens, subgroup 05B at 20 ppm. Practical analytical methods for detecting and measuring levels of fluopicolide and its metabolites have been developed and validated in/on all appropriate plant and animal matrices. An analytical method for detecting fluopicolide and BAM in mustard greens has been submitted with this petition. The LOQ of fluopicolide and the metabolite in the analytical method for mustard greens is 10 parts per billion (ppb) (0.01 ppm), which will allow monitoring for residues at the levels proposed for the tolerances. Contact: Janet Whitehurst, (703) 305-6129; whitehurst.janet@epa.gov.

8. PP 9F7620. (EPA-HQ-OPP-2009-0836). Gowan Company, 370 S. Main Street, Yuma, AZ 85364, proposes to establish a tolerance in 40 CFR part 180 for residues of the herbicide S-ethyl dipropylthiocarbamate (EPTC), in or on grasses grown for seed, hay at 0.1 ppm and grasses grown for seed, forage at 0.2 ppm. Adequate methods are available for the determination of EPTC and three hydroxy metabolites in crops, including grass grown for seed. The EPA reviewed these methods and noted in the “1999 EPTC Reregistration Eligibility Decision (RED)” that methods are available and adequate. The LOQ of the methods is 0.05 ppm for EPTC and 0.01 ppm for each of the hydroxy metabolites. Contact: Bethany Benbow, (703) 347-8072; benbow.bethany@epa.gov.

9. PP 9F7639. (EPA-HQ-OPP-2009-0920). Syngenta Crop Protection, Inc., P.O. Box 18300, Greensboro, NC 27419, proposes to establish a tolerance in 40 CFR part 180 for residues of the herbicide diquat dibromide, in or on canola, seed at 1.0 ppm; and canola, meal at 3.0 ppm. An adequate analytical method, extraction with sulfuric acid with HPLC detection, is available for enforcement purposes. Analytical methods for enforcing these tolerances have been published in the PAM II. Contact: Bethany Benbow, (703) 347-8072; benbow.bethany@epa.gov.

Amended Tolerances

1. PP 9E7632. (EPA-HQ-OPP-2009-0861). The Interregional Research Project No. 4 (IR-4), 500 College Road East, Suite 201W, Princeton, NJ 08540, proposes to amend the tolerances in 40 CFR 180.608 by revising the tolerance expression under paragraphs (a)(1) and (a)(2) to read as follows: (a)(1). Tolerances are established for residues of the insecticide spirodiclofen, including its metabolites and degradates. Compliance with the tolerance levels specified is to be determined by measuring only spirodiclofen (3-(2,4-dichlorophenyl)-2-oxo-1-oxaspiro[4,5]dec-3-en-4-yl 2,2-dimethylbutanoate). (a)(2). Tolerances are established for residues of the insecticide spirodiclofen, including its metabolites and degradates. Compliance with the tolerance levels specified is to be determined by measuring only the sum of spirodiclofen (3-(2,4-dichlorophenyl)-2-oxo-1-oxaspiro[4,5]dec-3-en-4-yl 2,2-dimethylbutanoate) and its metabolite 3-(2,4-dichlorophenyl)-4-hydroxy-1-oxaspiro[4,5]dec-3-en-2-one, calculated as the stoichiometric equivalent of spirodiclofen. Adequate analytical methodology using LC-MS/MS detection is available for enforcement purposes. Contact: Laura Nollen, (703) 305-7390; nollen.laura@epa.gov.

2. PP 9F7576. (EPA-HQ-OPP-2009-0673). BASF Corporation, 26 Davis Dr., Research Triangle Park, NC 27709, proposes to increase the tolerance in 40 CFR 180.361 for residues of the herbicide pendimethalin, N-(1-ethylpropyl)-3,4-dimethyl-2,6-dinitrobenzenamine, and its metabolite 4-[(1-ethylpropyl)amino]-2-methyl-3,5-dinitrobenzyl alcohol, in or on alfalfa, forage from 3.0 ppm to 3.5 ppm. In plants, the method is aqueous organic solvent extraction, column clean up, and quantitation by GC. The method has a LOQ of 0.05 ppm for pendimethalin and the alcohol metabolite. Contact: Philip Errico, (703) 305-6663; errico.philip@epa.gov.

New Tolerance Exemptions

1. PP 9E7627. (EPA-HQ-OPP-2009-0046). Joint Inerts Task Force, Cluster Support Team 25, EPA Company Number 84866, c/o CropLife America, 1156 15th St., NW, Suite 400, Washington, DC 20005, proposes to establish an exemption from the requirement of a tolerance for residues of N-alkyl (C8-C18) primary amines and acetate salts (NAPAAS) under 40 CFR 180.910 and 180.930 when used as inert ingredients in pesticide formulations, limited to a maximum of 10% by weight in herbicide products, and 4% by weight in other pesticidal products for the following N-alkyl (C8-C18) primary amines and acetate salts where the alkyl group is linear and may be saturated and or unsaturated including: The N-alkyl (C8-C18) primary amines acetate salts: amines, coco alkyl, acetates (61790-57-6); amines, soya alkyl, acetates (61790-60-1); amines, hydrogenated tallow alkyl, acetates (61790-59-8); and amines, tallow alkyl, acetates (61790-58-7); and the following N-alkyl (C8-C18) primary amines: amines, coco alkyl (61788-46-3); amines, coco alkyl (61790-33-8); and amines, C14-18 and C16-18 unsaturated alkyl (68155-38-4). The petitioner believes no analytical method is needed because requirements for an analytical method are not applicable to a request to establish an exemption from the requirement of a tolerance. Contact: Karen Samek, (703) 347-8825; samek.karen@epa.gov.

2. PP 9E7628. (EPA-HQ-OPP-2009-0131). Joint Inerts Task Force, Cluster Support Team 2, EPA Company Number 84914, c/o CropLife America, 1156 15th St., NW, Suite 400, Washington, DC 20005, proposes to establish an exemption from the requirement of a tolerance for residues of alkyl alcohol alkoxylate phosphate derivatives (AAAPD) under 40 CFR 180.910 and 180.930 when used as inert ingredients in pesticide formulations, limited to a maximum of 30% by weight in end-use products for the α-alkyl (minimum C6 linear or branched, saturated and or unsaturated)-ω-hydroxypolyoxyethylene polymer with or without polyoxypropylene, mixture of di- and monohydrogen phosphate esters and the corresponding ammonium, calcium, magnesium, monoethanolamine, potassium, sodium and zinc salts of the phosphate esters; minimum oxyethylene content averages 2 moles; minimum oxypropylene content is 0 moles, including: Poly(oxy-1,2-ethanediyl), α-tridecyl-ω-hydroxy-, phosphate (9046-01-9); Poly(oxy-1,2-ethanediyl), α-dodecyl-ω-hydroxy-, phosphate (39464-66-9); Poly(oxy-1,2-ethanediyl), α-hexadecyl-ω-hydroxy-, phosphate (50643-20-4); Poly(oxy-1,2-ethanediyl), α-decyl-ω-hydroxy-, phosphate (52019-36-0); Poly(oxy-1,2-ethanediyl), α-hydro-ω-hydroxy-, mono-C12-15-alkyl ethers, phosphates (69071-35-2); Polyphosphoric acids, esters with polyethylene glycol decyl ether (68458-48-0); Poly(oxy-1,2-ethanediyl), α-hydro-ω-hydroxy-, mono-C10-14-alkyl ethers, phosphates (68585-36-4); Poly(oxy-1,2-ethanediyl), α-hydro-ω-hydroxy-, mono-C12-15-branched alkyl ethers, phosphates (68815-11-2); Poly(oxy-1,2-ethanediyl), α-hydro-ω-hydroxy-, mono-C10-12-alkyl ethers, phosphates (68908-64-5); Poly(oxy-1,2-ethanediyl), α-hydro-ω-hydroxy-, mono-C12-14-alkyl ethers, phosphates (68511-37-5); Poly(oxy-1,2-ethanediyl), α-hydro-ω-hydroxy-, mono-C8-10-alkyl ethers, phosphates (68130-47-2); Poly(oxy-1,2-ethanediyl), α-dodecyl-ω-hydroxy-, phosphate, sodium salt (42612-52-2); Poly(oxy-1,2-ethanediyl), α-dodecyl-ω-hydroxy-, phosphate, potassium salt (58318-92-6); Poly(oxy-1,2-ethanediyl), α-hexadecyl-ω-hydroxy-, phosphate, potassium salt (60267-55-2); Poly(oxy-1,2-ethanediyl), α-decyl-ω-hydroxy-, phosphate, potassium salt (68070-99-5); Poly(oxy-1,2-ethanediyl), α-tridecyl-ω-hydroxy-, phosphate, potassium salt (68186-36-7); Poly(oxy-1,2-ethanediyl), α-decyl-ω-hydroxy-, phosphate, sodium salt (68186-37-8); Poly(oxy-1,2-ethanediyl), α-hydro-ω-hydroxy-, mono-C12-15-alkyl ethers, phosphates, sodium salts (68610-65-1); Poly(oxy-1,2-ethanediyl), α-isodecyl-ω-hydroxy-, phosphate, potassium salt (68071-17-0); (branched C10) Poly(oxy-1,2-ethanediyl), α-phosphono-ω-[(2-propylheptyl)oxy]-, potassium salt (1:2) (936100-29-7); (branched C10) Poly(oxy-1,2-ethanediyl), α-phosphono-ω-[(2-propylheptyl)oxy]-, sodium salt (1:2) (936100-30-0); Poly(oxy-1,2-ethanediyl), α-isotridecyl-ω-hydroxy-, phosphate (73038-25-2); Poly(oxy-1,2-ethanediyl), α-hydro-ω-hydroxy-, mono-C11-14-isoalkyl ethers, C13-rich, phosphates (78330-24--2); Poly(oxy-1,2-ethanediyl), α-hydro-ω-hydroxy-, mono(C10-rich C9-11-isoalkyl) ethers, phosphates (154518-39-5); Poly(oxy-1,2-ethanediyl), α-hydro-ω-hydroxy-, mono-C12-14-sec-alkyl ethers, phosphates (317833-96-8); Poly(oxy-1,2-ethanediyl), α-isodecyl-ω-hydroxy-, phosphate (108818-88-8); Poly(oxy-1,2-ethanediyl), α-phosphono-ω-[(2-propylheptyl)oxy] (873662-29-4); Poly(oxy-1,2-ethanediyl), α-dodecyl-ω-hydroxy-, phosphate, monoethanolamine salt (61837-79-4); Poly(oxy-1,2-ethanediyl), α-tridecyl-ω-hydroxy-, phosphate monoethanolamine salt (68311-02-4); Poly(oxy-1,2-ethanediyl), α-decyl-ω-hydroxy-, phosphate, monoethanolamine salt (68425-73-0); Oxirane, methyl-, polymer with oxirane, phosphate (37280-82-3); Oxirane, methyl-, polymer with oxirane, mono-C10-16-alkyl ethers, phosphates (68649-29-6); Oxirane, methyl-, polymer with oxirane, phosphate, potassium salt (67711-84-6); and Oxirane, methyl-, polymer with oxirane, mono-C10-16-alkyl ethers, phosphates, potassium salt (68891-13-4). The petitioner believes no analytical method is needed because requirements for an analytical method are not applicable to a request to establish an exemption from the requirement of a tolerance. Contact: Karen Samek, (703) 347-8825; samek.karen@epa.gov.

3. PP 9E7638. (EPA-HQ-OPP-2009-0937). Cognis Corporation, c/o Lewis & Harrison, LLC, 122 C Street NW, Suite 740, Washington, DC 20001, proposes to establish an exemption from the requirement of a tolerance for residues of the alkyl polyglycosides (CAS Nos. 68515-73-1, 110615-47-9, and 132778-08-6) under 40 CFR 180.950 when used as inert ingredients in pesticide formulations. The petitioner believes no analytical method is needed because requirements for an analytical method are not applicable to a request to establish an exemption from the requirement of a tolerance. Contact: Karen Samek, (703) 347-8825; samek.karen@epa.gov.

List of Subjects

Environmental protection, Agricultural commodities, Feed additives, Food additives, Pesticides and pests, Reporting and recordkeeping requirements.

Dated: January 27, 2010.
Lois Rossi,
Director, Registration Division, Office of Pesticide Programs.

[FR Doc. 2010-2382 Filed 2-3-10; 8:45 am]

BILLING CODE 6560-50-S